DEPARTMENT OF ENERGY

Federal Energy Regulatory Commission

[Docket No. AD09-9-000]

Small Hydropower Development in the United States; Supplemental Notice of Technical Conference

November 3, 2009.

As announced in the “Notice of Technical Conference” issued on August 14, 2009, a technical conference will be held on December 2, 2009, from 1 p.m. to 5 p.m. (EST) in the Commission Meeting Room at the Federal Energy Regulatory Commission, 888 First Street, NE., Washington, DC 20426. The conference will be open for the public to attend and advance registration is not required. Members of the Commission will attend and participate in the conference.

The purpose of this conference is to explore issues related to licensing small non-federal hydropower projects in the United States. Specifically, the participants will discuss the Commission's program for granting licenses and exemptions from licensing, including 5-megawatt and conduit exemptions, for conventional hydropower projects. The conference will also provide an opportunity for industry, state and federal agencies, tribes, and other stakeholders to express their views and suggestions for processing applications for small hydropower projects. The agenda for this conference is attached.

A free webcast of this event is available through http://www.ferc.gov. Anyone with Internet access who desires to listen to this event can do so by navigating to the Calendar of Events at http://www.ferc.gov and locating this event in the Calendar. The event will contain a link to its webcast. The Capitol Connection provides technical support for webcasts and offers the option of listening to the conference via phone-bridge for a fee. If you have any questions, visit http://www.CapitolConnection.org or call (703) 993-3100.

Anyone without Internet access can view the conference via television from one of the Commission's regional offices. Please call or e-mail the following staff by November 16, 2009, to make arrangements. Seating capacity is limited.

Regional office | Staff contact | Telephone number | E-mail address
Atlanta | Charles Wagner | (678) 245-3065 | charles.wagner@ferc.gov
Chicago | Peggy Harding | (312) 596-4438 | peggy.harding@ferc.gov
New York | Peter Valeri | (212) 273-5930 | peter.valeri@ferc.gov
Portland | Patrick Regan | (503) 552-2741 | patrick.regan@ferc.gov
San Francisco | Ron Adhya | (415) 369-3368 | ron.adhya@ferc.gov

This conference will be transcribed. Transcripts of the conference will be immediately available for a fee from Ace-Federal Reporters, Inc. (202) 347-3700 or (800) 336-6646.

Commission conferences are accessible under section 508 of the Rehabilitation Act of 1973. For accessibility accommodations, please send an e-mail to accessibility@ferc.gov or call toll free (866) 208-3372 (voice) or (202) 208-8659 (TTY), or send a FAX to (202) 208-2106 with the required accommodations.

For more information about this conference, please contact Steve Hocking at (202) 502-8753 or steve.hocking@ferc.gov.

Kimberly D. Bose,
Secretary.

[FR Doc. E9-26972 Filed 11-9-09; 8:45 am]

BILLING CODE 6717-01-P